DEPARTMENT OF LABOR

Office of the Secretary; Submission for OMB Emergency Review; Comment Request

August 21, 2000.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by September 12. A copy of this ICR, with applicable supporting documentation, may be obtained by calling the Department of Labor Departmental Clearance Officer, Ira L. Mills ((202) 219-5095, extension 129). Comments and questions about the ICR listed below should be forwarded to the Office of Information and Regulatory Affairs, Attn: OMB Desk Officer for the ETA, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration and the Employment Standards Administration

Title: Attestations by Facilities Employing H-1C Nonimmigrant Aliens as Registered Nurses

OMB Number: 1205-ONew

Frequency: On Occasion

Affected Public: Individuals or households; business or other for-profit; not-for-profit institutions; State, Local, or Tribal Government

Number of Respondents: 16

Total Annual Responses: 143

Total Burden Hours: 68

Total Burden Cost: (capital/startup: $0

Total Burden Cost (operating/maintaining): $0

Description: The Nursing Relief for Disadvantaged Areas Act of 1999 creates a temporary visa program for nonimmigrant aliens to work as registered nurses. This information collection contains recordkeeping and reporting requirements for those facilities seeking to hire nonresident alien nurses under the program, and information requirements for those persons wishing to file a complaint that a facility has failed to meet the statutory requirements of the Act.

Ira L. Mills,
Departmental Clearance Officer.

[FR Doc. 00-21725 Filed 8-24-00; 8:45 am]

BILLING CODE 4510-30-M